DEPARTMENT OF AGRICULTURE

Submission for OMB Review; Comment Request

The Department of Agriculture will submit the following information collection requirement(s) to OMB for review and clearance under the Paperwork Reduction Act of 1995, Public Law 104-13 on or after the date of publication of this notice. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by September 15, 2022. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Transparency in Poultry Grower Contracting and Tournaments.

OMB Control Number: 0581-NEW.

Summary of Collection: In accordance with the authority granted to the Secretary by the Packers and Stockyards Act of 1921 the Packers and Stockyards Division (PSD) is proposing regulations under the Packers and Stockyards Act, 1921, (P&S Act) (7 U.S.C. 181 et seq.) that clarify when certain conduct in the livestock and poultry industries represents the making or giving of an undue or unreasonable preference or advantage or subjects a person or locality to an undue or unreasonable prejudice or disadvantage. These proposed regulations also establish criteria PSD will consider in determining whether a live poultry dealer has provided prescribed documents to a prospective or current poultry grower.

Need and Use of the Information: The information collection requirements in this request are essential to improve transparency and forestall deception in the use of poultry growing arrangements, in accordance with the purposes of the Packers and Stockyards Act, 1921. Proposed revisions to the Packers and Stockyards regulations would require live poultry dealers to provide certain disclosures to poultry growers in advance of entering into production contracts. Under the proposal, dealers would have the option of using the Live Poultry Dealer Disclosure Form provided by AMS to meet the requirements for the cover page that must accompany additional dealer-generated disclosure documents as required. Alternatively, dealers could develop their own cover page to meet the requirement, as long as all the required information is included. Poultry growers could use the disclosure information to evaluate the accuracy of proposed contracts and make informed business decisions regarding financial investments related to poultry production.

Description of Respondents: Business or other for-profit.

Number of Respondents: 89.

Frequency of Responses: Reporting: Annually.

Total Burden Hours: 29,346.

Levi S. Harrell,
Departmental Information Collection Clearance Officer.

[FR Doc. 2022-17557 Filed 8-15-22; 8:45 am]

BILLING CODE 3410-02-P